DEPARTMENT OF THE INTERIOR

Fish and Wildlife Service

[FWS-R9-IA-2010-N048]

Conference of the Parties to the Convention on International Trade in Endangered Species of Wild Fauna and Flora (CITES); Fifteenth Regular Meeting; Tentative U.S. Negotiating Positions for Agenda Items and Species Proposals Submitted by Foreign Governments and the CITES Secretariat

AGENCY: Fish and Wildlife Service, Interior.

ACTION: Notice.

SUMMARY: We, the United States, as a Party to the Convention on International Trade in Endangered Species of Wild Fauna and Flora (CITES), will attend the fifteenth regular meeting of the Conference of the Parties to CITES (CoP15) in Doha, Qatar, during March 13-25, 2010. This notice announces the availability of tentative U.S. negotiating positions on amendments to the CITES Appendices (species proposals), draft resolutions and decisions, and agenda items submitted by other countries and the CITES Secretariat for consideration at CoP15. All of this information is on our website at http://www.fws.gov/international/newspubs/fedregnot_list.html and is also available from the U.S. Fish and Wildlife Service, Division of Management Authority.

DATES: In further developing U.S. negotiating positions on these issues, we will continue to consider information and comments submitted in response to our notice of November 4, 2009 (74 FR 57190). We will also continue to consider information received at the public meeting announced in that notice, which was held on December 2, 2009.

ADDRESSES: Requests for copies of tentative U.S. negotiating positions on amendments to the CITES Appendices (species proposals), draft resolutions and decisions, and agenda items submitted by other countries and the CITES Secretariat for consideration at CoP15 posted on our website should be sent to the Division of Management Authority; U.S. Fish and Wildlife Service; 4401 North Fairfax Drive; Room 212; Arlington, VA 22203; or via e-mail at: cop15@fws.gov.

Available Information on CoP15

Information concerning the results of CoP15 will be available after the close of the meeting on the Secretariat's website at http://www.cites.org; or upon request from the Division of Management Authority; or on our website (http://www.fws.gov/international/DMA_DSA/CITES/CITES_home.html).

FOR FURTHER INFORMATION CONTACT: For information pertaining to resolutions, decisions, and agenda items contact: Robert R. Gabel, Chief, Division of Management Authority; telephone, 703-358-2095; e-mail, cop15@fws.gov. For information pertaining to species proposals contact: Dr. Rosemarie Gnam, Chief, Division of Scientific Authority; telephone, 703-358-1708; e-mail, scientificauthority@fws.gov.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's website at http://www.cites.org/eng/app/appendices.shtml. Currently, 175 countries, including the United States, are Parties to CITES. The Convention calls for biennial meetings of the Conference of the Parties to review its implementation, make provisions enabling the CITES Secretariat to carry out its functions, consider amendments to the lists of species in Appendices I and II, consider reports presented by the Secretariat, and make recommendations for the improved effectiveness of CITES. Any country that is a Party to CITES may propose amendments to Appendices I and II, and draft resolutions, decisions, and agenda items for consideration by all the Parties. Accredited nongovernmental organizations (NGOs) may participate in the meeting as approved observers and may speak during sessions when recognized by the meeting Chairman, but they may not vote or submit proposals.

This is our fourth in a series of Federal Register notices on the development of U.S. submissions and tentative negotiating positions for CoP15. In this notice we announce the availability on our website of tentative U.S. negotiating positions on species proposals, draft resolutions and decisions, and agenda items submitted by other Parties and the Secretariat for consideration at CoP15. All of this information is also available from the U.S. Fish and Wildlife Service, Division of Management Authority (see “ADDRESSES,” above). We published our first CoP15-related Federal Register notice on September 29, 2008 (73 FR 56605), and with it we requested information and recommendations on species proposals, draft resolutions and decisions, and agenda items for the United States to consider submitting for consideration at CoP15. We published our second such Federal Register notice on July 13, 2009 (74 FR 33460), and with it we requested public comments and information on species proposals, draft resolutions and decisions, and agenda items that the United States was considering submitting for consideration at CoP15. In our third Federal Register notice, published on November 4, 2009 (74 FR 57190), we announced the provisional agenda for CoP15, solicited public comments on items on the provisional agenda, and announced a public meeting to discuss the agenda items. That public meeting was held on December 2, 2009.

You may obtain information on the above Federal Register notices from the following sources. For information on draft resolutions and decisions, and agenda items, contact the Division of Management Authority (see “ADDRESSES,” above); and for information on species proposals, contact the Division of Scientific Authority (see “ADDRESSES,” above). Our regulations governing this public process are found in 50 CFR 23.87. Pursuant to 50 CFR 23.87(a)(3)(iii), with this notice we are posting on our website (http://www.fws.gov/international/newspubs/fedregnot_list.html) a summary of our proposed negotiating positions on the items included in the CoP15 agenda and proposed amendments to the Appendices, and the reasons for our proposed positions.

Tentative Negotiating Positions

On our website (http://www.fws.gov/international/newspubs/fedregnot_list.html), we summarize the tentative U.S. negotiating positions on proposals to amend the Appendices (species proposals), draft resolutions and decisions, and agenda items that have been submitted by other countries and the CITES Secretariat. Documents submitted by the United States either alone or as a co-proponent for consideration by the Parties at CoP15 can be found on the Secretariat's website at: http://www.cites.org/eng/cop/index.shtml. Those documents are: CoP15 Docs. 36, 41.3, 41.4, 41.5, 48, 54, and 67. The United States, either alone or as a co-proponent, submitted the following proposals to amend Appendices I and II: CoP15 Props. 2, 3, 15, 16, 21, 25, 28, and 31. We will not provide any additional explanation of the U.S. negotiating position for documents and proposals that the United States submitted. The introduction in the text of each of the documents the United States submitted contains a discussion of the background of the issue and the rationale for submitting the document.

AUTHOR: This notice was prepared by Clifton A. Horton, Division of Management Authority; under the authority of the U.S. Endangered Species Act of 1973, as amended (16 U.S.C. 1531 et seq.).

Dated: March 5, 2010
Daniel M. Ashe
Acting Director, U.S. Fish and Wildlife Service

[FR Doc. 2010-5458 Filed 3-9-10; 4:15 pm]

BILLING CODE 4310-55-S